DEPARTMENT OF ENERGY

Federal Energy Regulatory Commission

Notice of Institution of Section 206 Proceeding and Refund Effective Date

| Docket Nos.
Flemington Solar, LLC | EL23-32-000
Frenchtown I Solar, LLC | EL23-33-000
Frenchtown II Solar, LLC | EL23-34-000
Frenchtown III Solar, LLC | EL23-35-000
Lakehurst Solar, LLC | EL23-36-000
PA Solar Park, LLC | EL23-37-000
Pilesgrove Solar, LLC | EL23-38-000
PA Solar Park II, LLC | EL23-39-000

On February 21, 2023, the Commission issued an order in Docket Nos. EL23-32-000, EL23-33-000, EL23-34-000, EL23-35-000, EL23-36-000, EL23-37-000, EL23-38-000, and EL23-39-000, pursuant to section 206 of the Federal Power Act (FPA), 16 U.S.C. 824e, instituting an investigation into whether Flemington Solar, LLC, Frenchtown I Solar, LLC, Frenchtown II Solar, LLC, Frenchtown III Solar, LLC, Lakehurst Solar, LLC, PA Solar Park, LLC, Pilesgrove Solar, LLC, and PA Solar Park II, LLC's Rate Schedules remain just and reasonable. Flemington Solar, LLC, 182 FERC ¶ 61,110 (2023).

The refund effective date in Docket Nos. EL23-32-000, EL23-33-000, EL23-34-000, EL23-35-000, EL23-36-000, EL23-37-000, EL23-38-000, and EL23-39-000, established pursuant to section 206(b) of the FPA, will be the date of publication of this notice in the Federal Register.

Any interested person desiring to be heard in Docket Nos. EL23-32-000, EL23-33-000, EL23-34-000, EL23-35-000, EL23-36-000, EL23-37-000, EL23-38-000, and EL23-39-000 must file a notice of intervention or motion to intervene, as appropriate, with the Federal Energy Regulatory Commission, in accordance with Rule 214 of the Commission's Rules of Practice and Procedure, 18 CFR 385.214 (2021), within 21 days of the date of issuance of the order.

In addition to publishing the full text of this document in the Federal Register, the Commission provides all interested persons an opportunity to view and/or print the contents of this document via the internet through the Commission's Home Page http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Dated: February 22, 2023.
Debbie-Anne A. Reese,
Deputy Secretary.

[FR Doc. 2023-04113 Filed 2-27-23; 8:45 am]

BILLING CODE 6717-01-P